DEPARTMENT OF LABOR

Wage and Hour Division

Agency Information Collection Activities; Comment Request; Proposed Revision; Information Collections: Employment Information Form; Correction; Extension of comment period

AGENCY: Wage and Hour Division, Department of Labor.

ACTION: Notice; correction; extension of comment period.

SUMMARY: The Department of Labor (DOL) published a document in the Federal Register of May 2, 2018, concerning agency collection activities and request for comments on a proposed revision to Information Collections: Employment Information Form. This collection is under OMB control number 1235-0021. The document contained an incorrect first sentence in Current Actions. This document corrects the first sentence in the Current Actions section and extends the comment period for the notice.

DATES: Written comments must be submitted to the office listed in the ADDRESSES section of the prior notice published in the Federal Register on May 2, 2018 (83 FR 19300-19301), on or before July 13, 2018.

FOR FURTHER INFORMATION CONTACT: Robert Waterman, Compliance Specialist, Division of Regulations, Legislation, and Interpretation, Wage and Hour Division, U.S. Department of Labor, Room S-3502, 200 Constitution Avenue NW, Washington, DC 20210; telephone: (202) 693-0406 (this is not a toll-free number). Copies of this notice may be obtained in alternative formats (Large Print, Braille, Audio Tape, or Disc), upon request, by calling (202) 693-0023 (not a toll-free number). TTY/TTD callers may dial toll-free (877) 889-5627 to obtain information or request materials in alternative formats.

Correction: In the Federal Register of May 2, 2018, in FR Doc. 2018-09301, on page 19301, in Section III, Current Actions, correct the first sentence to read:

III. Current Actions: The Department of Labor seeks an approval for the revision of this information collection in order to ensure effective administration of the Wage and Hour programs.

Dated: May 8, 2018.
Melissa Smith,
Director, Division of Regulations, Legislation and Interpretation.

[FR Doc. 2018-10220 Filed 5-11-18; 8:45 am]

BILLING CODE 4510-27-P